DEPARTMENT OF TRANSPORTATION

Federal Aviation Administration

14 CFR Part 39

[Docket No. 2003-NM-233-AD]

RIN 2120-AA64

Airworthiness Directives; Bombardier Model CL-600-2B19 (Regional Jet Series 100 & 440) Airplanes

AGENCY: Federal Aviation Administration, DOT.

ACTION: Notice of proposed rulemaking (NPRM).

SUMMARY: This document proposes the supersedure of an existing airworthiness directive (AD), applicable to certain Bombardier Model CL-600-2B19 (Regional Jet Series 100 & 440) airplanes, that currently requires installation of protective tape on the fire and overheat control unit located in the flight compartment. This action would continue to require the installation of protective tape and would add repetitive inspections of the condition of the protective tape and related corrective action. This action also would mandate eventual replacement of the existing fire and overheat control unit with a modified unit, which would end the repetitive inspections. Additionally, this action would add airplanes to the applicability in the existing AD. The actions specified by the proposed AD are intended to prevent fluid contamination inside the fire and overheat control unit, which could result in a false fire alarm and consequent emergency landing. This action is intended to address the identified unsafe condition.

DATES: Comments must be received by May 6, 2004.

ADDRESSES: Submit comments in triplicate to the Federal Aviation Administration (FAA), Transport Airplane Directorate, ANM-114, Attention: Rules Docket No. 2003-NM-233-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2003-NM-233-AD” in the subject line and need not be submitted in triplicate. Comments sent via the Internet as attached electronic files must be formatted in Microsoft Word 97 or 2000 or ASCII text.

The service information referenced in the proposed rule may be obtained from Bombardier, Inc., Canadair, Aerospace Group, P.O. Box 6087, Station Centre-ville, Montreal, Quebec H3C 3G9, Canada. This information may be examined at the FAA, Transport Airplane Directorate, 1601 Lind Avenue, SW., Renton, Washington; or at the FAA, New York Aircraft Certification Office, 10 Fifth Street, Third Floor, Valley Stream, New York.

FOR FURTHER INFORMATION CONTACT: James Delisio, Aerospace Engineer, Airframe and Propulsion Branch, ANE-171, FAA, New York Aircraft Certification Office, 1600 Stewart Avenue, suite 410, Westbury, New York; telephone (516) 228-7300; fax (516) 794-5531.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2003-NM-233-AD.” The postcard will be date stamped and returned to the commenter.

Availability of NPRMs

Any person may obtain a copy of this NPRM by submitting a request to the FAA, Transport Airplane Directorate, ANM-114, Attention: Rules Docket No. 2003-NM-233-AD, 1601 Lind Avenue, SW., Renton, Washington 98055-4056.

Discussion

On July 9, 2003, the FAA issued AD 2003-14-17, amendment 39-13236 (68 FR 42580, July 18, 2003), applicable to certain Bombardier Model CL-600-2B19 (Regional Jet Series 100 & 440) airplanes, to require the installation of protective tape on the fire and overheat control unit located in the flight compartment. That action was prompted by reports of two cases of multiple false fire alarms in flight. The requirements of that AD are intended to prevent fluid contamination inside the fire and overheat control unit, which could result in a false fire alarm and consequent emergency landing.

Actions Since Issuance of Previous Rule

Since the preparation of AD 2003-14-17, Transport Canada Civil Aviation (TCCA), which is the airworthiness authority for Canada, has issued Canadian airworthiness directive CF-2000-35R1, dated July 2, 2003. The revised Canadian airworthiness directive mandates replacement of the fire and overheat control unit in the flight compartment with a modified unit, which is a permanent solution to prevent the fluid contamination that can occur inside the existing unit.

Explanation of New Service Information

Bombardier has issued Alert Service Bulletin A601R-26-017, Revision “D,” dated November 6, 2003 (Revision “A” of the service bulletin was referenced in the existing AD for accomplishment of the installation of the protective tape). Revision “D” of the service bulletin adds airplanes to the effectivity in the service bulletin. Revision “D” also adds an inspection of the protective tape for damage. The inspection includes cleaning the tape and the top area of the overheat control unit, making sure that liquid is prevented from entering the unit at the fastener and hinge positions where tape is installed, and replacing damaged tape with new tape.

Bombardier also has issued Service Bulletin 601R-26-018, Revision “A,” dated February 27, 2003, which describes procedures for replacement of fire and overheat control units having part number (P/N) 472597-01, with modified units having P/N 472597-02. Such replacement eliminates the need for the repetitive inspections. The service bulletin also describes procedures for an operational test after the modified unit is installed. The service bulletin references Kidde Aerospace Service Bulletin 472597-01-26-431, dated August 28, 2001, as an additional source of service information for accomplishment of the modification.

Although the Bombardier service bulletins describe procedures for completing a reporting sheet, this proposed AD would not require those actions.

TCCA classified the Bombardier service bulletins as mandatory and issued Canadian airworthiness directive CF-2000-35R1, dated July 2, 2003, to ensure the continued airworthiness of these airplanes in Canada.

FAA's Conclusions

This airplane model is manufactured in Canada and is type certificated for operation in the United States under the provisions of section 21.29 of the Federal Aviation Regulations (14 CFR 21.29) and the applicable bilateral airworthiness agreement. Pursuant to this bilateral airworthiness agreement, TCCA has kept us informed of the situation described above. We have examined the findings of TCCA, reviewed all available information, and determined that AD action is necessary for products of this type design that are certificated for operation in the United States.

Explanation of Requirements of Proposed Rule

Since an unsafe condition has been identified that is likely to exist or develop on other airplanes of the same type design registered in the United States, the proposed AD would supersede AD 2003-14-17 to continue to require installation of protective tape on the fire and overheat control unit located in the flight compartment. In addition, the proposed AD would add repetitive inspections of the protective tape for damage, and related corrective action. The proposed AD also would mandate eventual replacement of the existing fire and overheat control unit with a modified unit. Additionally, the proposed AD would add airplanes on which the specified change was not incorporated during production to the applicability in the existing AD. The actions would be required to be accomplished in accordance with the Bombardier service bulletins described previously, except as discussed below.

Clarification of Compliance Time

The Canadian airworthiness directive requires doing the inspection of the condition of the protective tape “within 5,000 hours air time or at the next C-check after compliance with Part 1 of the directive, whichever occurs later.” The Canadian airworthiness directive requires repeating that inspection “every 5,000 hours air time or at the next C-check, whichever occurs later.” Because “C-check” schedules vary among operators, this proposed AD would require accomplishment of the initial inspection within 5,000 flight hours or 24 months after the effective date of the AD, whichever is later. The inspection is to be repeated at intervals not to exceed 5,000 flight hours or 24 months, whichever is later. We find that a grace period of 24 months is within an interval of time that parallels normal scheduled maintenance for most affected operators and is appropriate for affected airplanes to continue to operate without compromising safety. This difference has been coordinated with TCCA.

Clarification of Inspection

Service Bulletin A601R-26-017, Revision D, specifies an “inspection” of the protective tape, but we have clarified the inspection requirement contained in the proposed AD as a general visual inspection. Additionally, a note has been added to define that inspection.

Work Hour Rate Increase

We have reviewed the figures we have used over the past several years to calculate AD costs to operators. To account for various inflationary costs in the airline industry, we find it necessary to increase the labor rate used in these calculations from $60 per work hour to $65 per work hour. The cost impact information, below, reflects this increase in the specified hourly labor rate.

Cost Impact

There are about 240 airplanes of U.S. registry that would be affected by this proposed AD.

The installation of protective tape that is currently required by AD 2003-14-17 takes about 1 work hour per airplane to do, at an average labor rate of $65 per work hour. Based on these figures, the cost impact of the currently required actions is estimated to be $65 per airplane.

The new inspection that is proposed in this AD action would take about 1 work hour per airplane to do, at an average labor rate of $65 per work hour. Based on these figures, the cost impact of the inspection proposed by this AD on U.S. operators is estimated to be $15,600, or $65 per airplane, per inspection cycle.

The replacement that is proposed in this AD action would take about 2 work hours per airplane to do, at an average labor rate of $65 per work hour. Parts cost would be minimal. Based on these figures, the cost impact of the replacement proposed by this AD on U.S. operators is estimated to be $31,200, or $130 per airplane.

The cost impact figures discussed above are based on assumptions that no operator has yet accomplished any of the current or proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-13236 (68 FR 42580, July 18, 2003), and by adding a new airworthiness directive (AD), to read as follows:

Bombardier, Inc. (Formerly Canadair): Docket 2003-NM-233-AD. Supersedes AD 2003-14-17, Amendment 39-13236.

Applicability: Model CL-600-2B19 (Regional Jet Series 100 & 440) airplanes; certificated in any category; as listed in Bombardier Alert Service Bulletin A601R-26-017, Revision ‘D,’ dated November 6, 2003; and Bombardier Service Bulletin 601R-26-018, Revision ‘A,’ dated February 27, 2003.

Compliance: Required as indicated, unless accomplished previously.

To prevent fluid contamination inside the fire and overheat control unit in the flight compartment, which could result in a false fire alarm and consequent emergency landing, accomplish the following:

Restatement of Requirements of AD 2003-14-17

Installation of Protective Tape

(a) For airplanes listed in Bombardier Alert Service Bulletin A601R-26-017, Revision ‘A,’ dated September 8, 2000: Within 250 flight hours or 30 days after August 22, 2003 (the effective date of AD 2003-14-17, amendment 39-13236), whichever occurs first, install protective tape on the external cover of the fire and overheat control unit located in the flight compartment per the Accomplishment Instructions of Bombardier Alert Service Bulletin A601R-26-017, Revision ‘A,’ dated September 8, 2000; or Revision ‘D,’ dated November 6, 2003.

(b) Installation of protective tape on the external cover of the fire and overheat control in the flight compartment, done before the effective date of this AD, per Bombardier Alert Service Bulletin A601R-26-017, dated August 4, 2000; or Revision ‘B,’ dated February 6, 2003; is acceptable for compliance with the requirements of paragraphs (a) and (c) of this AD.

New Requirements of This AD

Installation of Protective Tape

(c) For airplanes listed in Bombardier Alert Service Bulletin A601R-26-017, Revision ‘D,’ dated November 6, 2003; and Bombardier Service Bulletin 601R-26-018, Revision ‘A,’ dated February 27, 2003; on which the requirements specified in paragraph (a) of this AD have not been done as of the effective date of this AD: Within 250 flight hours or 30 days after the effective date of this AD, whichever occurs first, install protective tape on the external cover of the fire and overheat control unit located in the flight compartment per the Accomplishment Instructions of Bombardier Alert Service Bulletin A601R-26-017, Revision ‘D,’ dated November 6, 2003. Accomplishment of this paragraph terminates the requirements of paragraph (a) of this AD.

Repetitive Inspections/Corrective Action

(d) Within 5,000 flight hours or 24 months after the effective date of this AD: Do a general visual inspection to determine the condition of the protective tape on the external cover of the fire and overheat control unit, per the Accomplishment Instructions of Bombardier Alert Service Bulletin A601R-26-017, Revision ‘D,’ dated November 6, 2003.

(1) If the protective tape is not damaged and provides an adequate seal to prevent entry of liquid at the fastener and hinge positions of the unit: Repeat the inspection thereafter at intervals not to exceed 5,000 flight hours or 24 months, whichever is later.

(2) If the protective tape is damaged or does not provide an adequate seal to prevent entry of liquid at the fastener and hinge positions of the unit: Before further flight, replace the protective tape with new tape per the service bulletin. Repeat the inspection thereafter at intervals not to exceed 5,000 flight hours or 24 months, whichever is later.

Note 1: For the purposes of this AD, a general visual inspection is defined as: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

Replacement

(e) Within 20,000 flight hours or 84 months after the effective date of this AD, whichever is first: Replace the fire and overheat control unit with a modified unit, per the Accomplishment Instructions of Bombardier Service Bulletin 601R-26-018, Revision ‘A,’ dated February 27, 2003. Accomplishment of the replacement terminates the repetitive inspections required by paragraph (d) of this AD.

No Reporting Required

(f) Where Bombardier Alert Service Bulletin A601R-26-017, Revision ‘D,’ dated November 6, 2003; and Bombardier Service Bulletin 601R-26-018, Revision ‘A,’ dated February 27, 2003; describe procedures for completing a reporting sheet, this AD does not require that action.

Part Installation

(g) As of the effective date of this AD, no person may install a fire and overheat control unit, part number 472597-01, on any airplane, unless the unit has been modified per paragraph (e) of this AD.

Alternative Methods of Compliance

(h) In accordance with 14 CFR 39.19, the Manager, New York Aircraft Certification Office (ACO), FAA, is authorized to approve alternative methods of compliance for this AD.

Note 2: The subject of this AD is addressed in Canadian airworthiness directive CF-2000-35R1, dated July 2, 2003.

Issued in Renton, Washington, on March 30, 2004.
Kalene C. Yanamura,
Acting Manager, Transport Airplane Directorate, Aircraft Certification Service.

[FR Doc. 04-7712 Filed 4-5-04; 8:45 am]

BILLING CODE 4910-13-P